DEPARTMENT OF TRANSPORTATION

Federal Aviation Administration

14 CFR Part 39

[Docket No. FAA-2010-1101; Directorate Identifier 2009-CE-013-AD]

RIN 2120-AA64

Airworthiness Directives; Cessna Aircraft Company Models 150, 152, 170, 172, 175, 177, 180, 182, 185, 188, 190, 195, 206, 207, 210, T303, 336, and 337 Airplanes

AGENCY: Federal Aviation Administration (FAA), Department of Transportation (DOT).

ACTION: Notice of proposed rulemaking (NPRM).

SUMMARY: We propose to supersede Airworthiness Directive (AD) 87-20-03 R2, which applies to certain Cessna Aircraft Company (Cessna) 150, 152, 170, 172, 175, 177, 180, 182, 185, 188, 190, 195, 206, 207, 210, T303, 336, and 337 series airplanes. AD 87-20-03 R2 currently requires repetitive inspections and replacement of parts, if necessary, of the seat rail and seat rail holes; seat pin engagement; seat rollers, washers, and axle bolts or bushings; wall thickness of roller housing and the tang; and lock pin springs. Since we issued AD 87-20-03 R2, we have added steps to the inspection procedures, added revised figures, and clarified some of the existing steps. Consequently, this proposed AD would retain all of the actions from the previous AD and add steps to the inspection procedures in the previous AD. We are proposing this AD to prevent seat slippage or the seat roller housing from departing the seat rail, which may consequently cause the pilot/copilot to be unable to reach all the controls. This failure could lead to the pilot/copilot losing control of the airplane.

DATES: We must receive comments on this proposed AD by December 23, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

FOR FURTHER INFORMATION CONTACT: Gary Park, Aerospace Engineer, ACE-118W, Wichita Aircraft Certification Office (ACO), 1801 Airport Road, Room 100, Wichita, Kansas 67209; telephone: (316) 946-4123; fax: (316) 946-4107.

SUPPLEMENTARY INFORMATION:

Comments Invited

We invite you to send any written relevant data, views, or arguments regarding this proposed AD. Send your comments to an address listed under the ADDRESSES section. Include the docket number, “FAA-2010-1101; Directorate Identifier 2009-CE-013-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Reports of seats slipping on the rails on Cessna airplanes caused us to issue AD 87-20-03 R2, Amendment 39-6669. AD 87-20-03 R2 currently requires repetitive inspections and replacement of parts if necessary of the seat rail and seat rail holes; seat pin engagement; seat rollers, washers, and axle bolts or bushings; wall thickness of roller housing and the tang; and lock pin springs on Cessna 150, 152, 170, 172, 175, 177, 180, 182, 185, 188, 190, 195, 206, 207, 210, T303, 336, and 337 series airplanes.

We have in the last 20 years received several reports of accidents, some fatal, for Cessna airplanes where the primary latch pin for the pilot/copilot seat is not properly engaged in the seat rail/track. There have also been incidents where the seat roller housing has departed the seat rail. Consequently, we have added steps to the inspection procedures, added revised figures, and clarified some of the existing steps.

This condition, if not corrected, could result in seat slippage or the seat roller housing departing from the seat rail, which may consequently cause the pilot/copilot to be unable to reach all the controls. This failure could lead to the pilot/copilot losing control of the airplane.

FAA's Determination and Requirements of the Proposed AD

We are proposing this AD because we evaluated all information and determined the unsafe condition described previously is likely to exist or develop on other products of the same type design. This proposed AD would supersede AD 87-20-03 R2 with a new AD that would retain all of the actions from the previous AD and add steps to the inspection procedures in the previous AD.

Costs of Compliance

We estimate that this proposed AD would affect 36,000 airplanes in the U.S. registry.

The estimated total cost on U.S. operators includes the cumulative costs associated with AD 87-20-03 R2. The required actions of this proposed AD are the same as in AD 87-20-03 R2 with the exception of some added steps to the inspection, which do not increase work-hours. The increased estimated cost of this AD is due to increased labor cost and parts cost from 1987 when AD 87-20-03 R2 was issued.

We estimate the following costs to do the proposed inspections:

Labor cost | Parts cost | Total cost per airplane | Total cost on U.S. operators
1 work-hour × $85 per hour = $85 | Not applicable | $85 | $3,060,000

We estimate the following costs to do any necessary replacements that would be required based on the results of the proposed inspection. We have no way of determining the number of airplanes that may need this replacement:

Labor cost | Parts cost | Total cost per airplane
Seat rail: 2 work-hours × $85 per hour = $170 per rail | $225 per rail | $395
Seat roller kit: 2 work-hours per seat (less per leg) × $85 per hour = $170 | 110 | 280
Miscellaneous parts, such as seat rollers, washers, bushings, bolts, lock pin springs, etc.: 1 work-hour per seat × $85 per hour = $85 | 15 | 100

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 87-20-03 R2, Amendment 39-6669, and adding the following new AD:

Cessna Aircraft Company: Docket No. FAA-2010-1101; Directorate Identifier 2009-CE-013-AD.

Comments Due Date

(a) We must receive comments on this airworthiness directive (AD) action by December 23, 2010.

Affected ADs

(b) This AD supersedes AD 87-20-03 R2, Amendment 39-6669.

Applicability

(c) This AD applies to all serial numbers of the following Cessna Aircraft Company (Cessna) Models that are certificated in any category:

Models
150A, 150B, 150C, 150D, 150E, 150F, 150G, 150H, 150J, 150K, 150L, 150M, A150K, A150L, A150M, F150F, F150G, F150H, F150J, F150K, F150L, F150M, FA150K, FA150L, FA150M, FRA150L, and FRA150M
152, A152, F152, and FA152
170, 170A, and 170B
172, 172A, 172B, 172C, 172D, 172E, 172F (USAF T-41A), 172G, 172H (USAF T-41A), 172I, 172K, 172L, 172M, 172N, 172P, 172Q, 172RG, F172D, F172E, F172F, F172G, F172H, F172K, F172L, F172M, F172N, F172P, FR172E, FR172F, FR172G, FR172H, FR172J, FR172K, P172D, R172E (USAF T-41B) (USAF T-41C and D), R172F (USAF T-41D), R172G (USAF T-41C or D), R172H (USAF T-41D), R172J, and R172K
175, 175A, 175B, and 175C
177, 177A, 177B, 177RG, and F177RG
180, 180A, 180B, 180C, 180D, 180E, 180F, 180G, 180H, 180J, and 180K
182, 182A, 182B, 182C, 182D, 182E, 182F, 182G, 182H, 182J, 182K, 182L, 182M, 182N, 182P, 182Q, 182R, F182P, F182Q, FR182, R182, T182, and TR182
185, 185A, 185B, 185C, 185D, 185E, A185E, and A185F
188, 188A, A188, A188A, 188B, A188B, and T188C
190
195, 195A, and 195B
206, P206, P206A, P206B, P206C, P206D, P206E, TP206A, TP206B, TP206C, TP206D, TP206E, TU206A, TU206B, TU206C, TU206D, TU206E, TU206F, TU206G, U206, U206A,U206B, U206C, U206D, U206E, U206F, and U206G
207, 207A, T207, and T207A
210, 210-5 (205), 210-5A (205A), 210A, 210B, 210C, 210D, 210E, 210F, 210G, 210H, 210J, 210K, 210L, 210M, 210N, 210R, P210N, P210R, T210F, T210G, T210H, T210J, T210K, T210L, T210M, T210N, and T210R
T303
336
337, 337A, 337B, 337C, 337D, 337E, 337F, 337G, 337H, F337E, F337F, F337G, F337H, FT337E, FT337F, FT337GP, FT337HP, M337B, P337H, T337B, T337C, T337D, T337E, T337F, T337G, T337H, and T337H-SP

Unsafe Condition

(d) This AD results from reports of seats slipping on the rails where the primary latch pin for the pilot/copilot seat is not properly engaged in the seat rail/track and reports of the seat roller housing departing the seat rail. We are issuing this AD to prevent seat slippage or the seat roller housing from departing the seat rail, which may consequently cause the pilot/copilot to be unable to reach all the controls. This failure could lead to the pilot/copilot losing control of the airplane.

Compliance

(e) For all airplanes, to address the unsafe condition described in paragraph (d) of this AD, you must do the following actions on the seat rails; seat rollers, washers, and axle bolts or bushings; seat roller housings and the tangs; and lock pin springs, unless already done, initially within the next 100 hours time-in-service (TIS) after the last inspection done following AD 87-20-03 R2 or within the next 12 calendar months after the effective date of this AD, whichever occurs first. Repetitively thereafter do the actions at intervals not to exceed every 100 hours TIS or every 12 months, whichever occurs first:

(1) Visually inspect the pilot and copilot seat rails for dirt and debris that may prevent engagement of the seat locking pins. Before further flight, after any inspection where dirt or debris is found, remove the dirt or debris found.

(2) Lift up the forward edge of each seat to eliminate vertical play of the seat locking pin in the engagement hole, and from this position, inspect the depth of engagement of each seat locking pin (see figure 2). If the rail is worn, this depth is measured from the worn surface, not the manufactured surface.

(i) If engagement of any of the seat locking pins measures less than 0.15 of an inch, before further flight, replace or repair any seat components necessary to achieve a seat pin engagement of a minimum of 0.15 of an inch.

(ii) Repair or replacement of necessary seat components does not terminate the repetitive actions required in paragraph (e) of this AD.

(3) Remove the seat from the seat rail.

(i) Remove the seat stops.

(ii) Disengage seat belt/shoulder harness from the seat, if necessary.

(iii) Raise vertical adjusting seats to maximum height.

(iv) Hold seat latches disengaged and slide the seat forward and aft to disengage rollers.

(v) Lift the seat out of the airplane.

(4) Inspect the diameter of each seat locking pin engagement hole in the pilot and copilot seat rails for excessive wear. Due to wear on the rail surface at the hole opening, we allow this measurement 0.020 of an inch below the surface of the rail. You must take this measurement somewhere between the surface of the rail or no more than 0.020 of an inch below the surface of the rail.

(i) If the diameter of any of the holes is 0.42 of an inch or more (see figure 1), before further flight, replace the rail.

(ii) Rail replacement does not terminate the repetitive actions required in paragraph (e) of this AD.

BILLING CODE 4910-13-P

(5) Visually inspect the seat rollers for flat spots and inspect the rollers and washers for binding. Assure all rollers and washers, which are meant to rotate, turn freely on their axles (or bushings if installed).

(i) Before further flight, replace any rollers with flat spots and any worn washers.

(ii) Before further flight, remove and clean the parts if there is any binding between the bores of the rollers, washers, or axles.

(iii) Do not lubricate the rollers, washers, or axles because the lubricant will attract dust and other particles that may cause binding.

(6) Inspect the thickness of the tang (see figure 2 and figure 3). Due to wear of the tang chafing against the seat rail, measure the tang thickness where the tang inner edges contact the seat rail.

(i) If the tang thickness measures less than 0.05 of an inch, before further flight replace the roller housing.

(ii) Replacement of the roller housing does not terminate the repetitive actions required in paragraph (e) of this AD.

(7) Inspect the inner edges of the tangs. Due to wear or deformation of the tangs, measure the distance from one tang inner edge to the other tang inner edge (see figure 4).

(i) The maximum distance allowed between tang edges is 0.44 inches. If the distance between tang inner edges measures 0.44 of an inch or more, before further flight, replace the roller housing.

(ii) The minimum measurement allowed for the remaining tang is 0.130 inches remaining on either of the tangs, from the inner edge of the tang to the bend of the roller housing. If the measurement is less than 0.130 inches on either of the tangs, before further flight, replace the roller housing.

(iii) Replacement of the roller housing does not terminate the repetitive actions required in paragraph (e) of this AD.

(8) Inspect the springs that keep the lock pins in position in the rail holes for positive engagement action. Before further flight, replace any spring that does not provide positive engagement.

(9) Visually inspect the seat rails for cracks.

(i) If there are seat rail cracks that exceed the crack criteria in figure 5, before further flight, replace the seat rail.

(ii) Replacement of the seat rail does not terminate the repetitive actions required in paragraph (e) of this AD.

BILLING CODE 4910-13-P

(10) Reinstall the seat on the seat rail.

(i) Lift the seat into the airplane and place on the seat rail.

(ii) Hold seat latch disengaged and slide the seat aft and then forward to re-engage rollers.

(iii) Lower vertical adjusting seats to a comfortable height.

(iv) Reattach seat belt/shoulder harness to the seat, if previously attached to the seat.

(v) Reinstall the seat stops.

Alternative Methods of Compliance (AMOCs)

(g) The Manager, Wichita Aircraft Certification Office (ACO), FAA, has the authority to approve AMOCs for this AD, if requested using the procedures found in 14 CFR 39.19. Send information to ATTN: Gary Park, Aerospace Engineer, ACE-118W, Wichita Aircraft Certification Office (ACO), 1801 Airport Road, Room 100, Wichita, Kansas 67209; telephone: (316) 946-4123; fax: (316) 946-4107. Before using any approved AMOC on any airplane to which the AMOC applies, notify your appropriate principal inspector (PI) in the FAA Flight Standards District Office (FSDO), or lacking a PI, your local FSDO.

(h) AMOCs approved for AD 87-20-03 R2 are approved for this AD.

Related Information

(i) To view the AD docket, go to U.S. Department of Transportation, Docket Operations, M-30, West Building Ground Floor, Room W12-140, 1200 New Jersey Avenue, SE., Washington, DC 20590, or on the Internet at http://www.regulations.gov.

Issued in Kansas City, Missouri on November 1, 2010.
John Colomy,
Acting Manager, Small Airplane Directorate, Aircraft Certification Service.

[FR Doc. 2010-28158 Filed 11-5-10; 8:45 am]

BILLING CODE 4910-13-C